DEPARTMENT OF THE INTERIOR

National Park Service

[N6578; NPS-WASO-NAGPRA-NPS0041254; PPWOCRADN0-PCU00RP14.R50000]

Notice of Inventory Completion: Missouri Historical Society, St. Louis, MO

AGENCY: National Park Service, Interior.

ACTION: Notice.

SUMMARY: In accordance with the Native American Graves Protection and Repatriation Act (NAGPRA) the Missouri Historical Society (MHS) has completed an inventory of associated funerary objects and has determined that there is a cultural affiliation between the associated funerary objects and Indian Tribes or Native Hawaiian organizations in this notice.

DATES: Repatriation of the associated funerary objects in this notice may occur on or after December 18, 2025.

ADDRESSES: Send written requests for repatriation of the associated funerary objects to Brady Wolf, Missouri Historical Society, 225 S Skinker Boulevard, St. Louis, MO 63105, email bwolf@mohistory.org.

SUPPLEMENTARY INFORMATION: This notice is published as part of the National Park Service's administrative responsibilities under NAGPRA. The determinations in this notice are the sole responsibility of the MHS, and additional information on the determinations in this notice, including the results of consultation, can be found in its inventory or related records. The National Park Service is not responsible for the determinations in this notice.

Abstract of Information Available

The 998 associated funerary objects (AFOs) are: 989 stone bifaces from a cache, one grooved stone axe, one celt, one shell hoe, two projectile points, one stone drill, one stone flake, one boatstone, and one lot of shell beads.

In 1905 the Montezuma Mound group (11PK1245) in Pike County, Illinois, was excavated by advocational archaeologists including Gerard Fowke, David Ives Bushnell, J.M. Wulfing, and N.D. McEvers. The 989 stone bifaces were taken from a burial in Montezuma Mounds #1, also known as McEvers Mound. The AFOs from that excavation were transferred to the Missouri Historical Society later that same year. Additional AFOs from Montezuma Mounds were transferred from Bushnell to the MHS in 1921. MHS records do not indicate the presence of any known hazardous substances.

Cultural Affiliation

Based on the information available and the results of consultation, cultural affiliation is reasonably identified by the geographical location or acquisition history of the associated funerary objects described in this notice.

Determinations

The MHS has determined that:

• The 998 objects described in this notice are reasonably believed to have been placed intentionally with or near individual human remains at the time of death or later as part of the death rite or ceremony.

• There is a reasonable connection between the associated funerary objects described in this notice and the Citizen Potawatomi Nation, Oklahoma; Eastern Shawnee Tribe of Oklahoma; Forest County Potawatomi Community, Wisconsin; Match-e-be-nash-she-wish Band of Pottawatomi Indians of Michigan; Iowa Tribe of Kansas and Nebraska; Kaw Nation, Oklahoma; Miami Tribe of Oklahoma; Omaha Tribe of Nebraska; Otoe-Missouria Tribe of Indians, Oklahoma; Peoria Tribe of Indians of Oklahoma; Pokagon Band of Potawatomi Indians, Michigan and Indiana; Ponca Tribe of Indians of Oklahoma; Ponca Tribe of Nebraska; Prairie Band Potawatomi Nation; Quapaw Nation; Sac & Fox Nation, Oklahoma; Sac & Fox Tribe of the Mississippi in Iowa; Shawnee Tribe; and the Winnebago Tribe of Nebraska.

Requests for Repatriation

Written requests for repatriation of the associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the associated funerary objects described in this notice to a requestor may occur on or after December 18, 2025. If competing requests for repatriation are received, the MHS must determine the most appropriate requestor prior to repatriation. Requests for joint repatriation of the associated funerary objects are considered a single request and not competing requests. The MHS is responsible for sending a copy of this notice to the Indian Tribes and Native Hawaiian organizations identified in this notice.

Authority: Native American Graves Protection and Repatriation Act, 25 U.S.C. 3003, and the implementing regulations, 43 CFR 10.10.

Dated: September 25, 2025.
Melanie O'Brien,
Manager, National NAGPRA Program.

[FR Doc. 2025-20113 Filed 11-17-25; 8:45 am]

BILLING CODE 4312-52-P